DEPARTMENT OF ENERGY

10 CFR Part 900

RIN 1901-AB36

Coordination of Federal Authorizations for Electric Transmission Facilities; Notice of Public Meeting

AGENCY: Office of Electricity Delivery and Energy Reliability, Department of Energy.

ACTION: Proposed rulemaking; notice of public meeting.

SUMMARY: This document announces that the U.S. Department of Energy (DOE) will hold a public workshop to discuss the proposed rule for the coordination of federal authorizations for electric transmission facilities for the Integrated Interagency Pre-application (IIP) process. The public workshop will include a presentation describing the proposed rule and will allow for questions and comments about and on the rule.

DATES: The public workshop will be held on March 22, 2016, beginning at 1:00 p.m. Eastern Time. Written comments are welcome before or after the workshop and should be submitted prior to the end of the public comment period for the proposed rule (April 4, 2016).

ADDRESSES: The meeting will be held via webinar and conference call. The webinar invitation, phone number, and instructions on how to register and log in to the webinar will be available at: http://energy.gov/oe/downloads/notice-proposed-rulemaking-integrated-interagency-pre-application-process-iip-electric.

You may submit comments, identified by RIN 1901-AB36, by any of the following methods:

1. Follow the instructions for submitting comments on the Federal eRulemaking Portal at http://www.regulations.gov.

2. Send email to oeregs@hq.doe.gov. Include RIN 1901-AB36 in the subject line of the email. Please include the full body of your comments in the text of the message or as an attachment.

3. Address postal mail to U.S. Department of Energy, Office of Electricity Delivery and Energy Reliability, Mailstop OE-20, Room 8G-017, 1000 Independence Avenue SW., Washington, DC 20585.

Due to potential delays in the delivery of postal mail, we encourage respondents to submit comments electronically to ensure timely receipt.

This notice, a transcript of the public workshop, and any comments that DOE receives on the proposed rulemaking will be made available on the DOE Web site at http://energy.gov/oe/downloads/notice-proposed-rulemaking-integrated-interagency-pre-application-process-iip-electric. You may request a hardcopy of the workshop transcript or comments be sent to you via postal mail by contacting the DOE's Office of Electricity Delivery and Energy Reliability.

FOR FURTHER INFORMATION CONTACT: Julie A. Smith, Ph.D., U.S. Department of Energy, Office of Electricity Delivery and Energy Reliability, Mailstop OE-20, Room 8G-017, 1000 Independence Avenue SW., Washington, DC 20585; or oeregs@hq.doe.gov.

SUPPLEMENTARY INFORMATION: On February 2, 2016, DOE published a proposed rule in the Federal Register (81 FR 5383) to provide a process for the timely coordination of Federal authorizations for proposed transmission facilities pursuant to section 216(h) of the FPA (16 U.S.C. 824p(h)). The rule would establish an early pre-application process (the Integrated Interagency Pre-application (IIP) process) in support of this coordination and the selection of a NEPA lead agency. The proposed regulations provide a framework for DOE to facilitate early cooperation and exchange of environmental information required to site qualified electric transmission facilities. These activities would occur prior to an applicant filing a request for authorization with Federal permitting agencies. The proposed regulations also provide an opportunity for non-Federal agencies (tribal, state, or local governments) to coordinate separate non-Federal permitting and environmental reviews with those of the Federal permitting agencies. This document announces the public workshop described in the proposed rule.

Members of the public are welcome to pre-register for the webinar if they would like to make oral statements during the specified period for public comment. To pre-register to provide public comments, please email oeregs@hq.doe.gov. In the email, please indicate your name, organization (if appropriate), citizenship, and contact information. If you would like to receive further information on the proposed rule or IIP process, please include your email address in your pre-registration email.

An audio recording and written transcript of the public workshop, and any comments that DOE receives during the workshop, will be made available after the webinar on the DOE Web site at http://energy.gov/oe/downloads/notice-proposed-rulemaking-integrated-interagency-pre-application-process-iip-electric. You may request a hardcopy of the workshop transcript or comments be sent to you via postal mail by contacting DOE's Office of Electricity Delivery and Energy Reliability.

Issued in Washington, DC, on February 29, 2016.
Meghan Conklin,
Deputy Assistant Secretary, Office of Electricity Delivery and Energy Reliability.

[FR Doc. 2016-04986 Filed 3-4-16; 8:45 am]

BILLING CODE 6450-01-P